DEPARTMENT OF THE INTERIOR

Bureau of Land Management

[LLCAC06000.L11500000.DR0000.14X]

Notice of Availability of the Record of Decision for the Bakersfield Field Office Resource Management Plan Final Environmental Impact Statement, California

AGENCY: Bureau of Land Management, Interior.

ACTION: Notice.

SUMMARY: The Bureau of Land Management (BLM) announces the availability of the Record of Decision (ROD) for the Approved Resource Management Plan (RMP) for the Bakersfield Field Office located in Kings, Madera, San Luis Obispo, Santa Barbara, Tulare, Ventura, eastern Fresno, and western Kern counties in south-central California. The California State Director signed the ROD on December 22, 2014, which constitutes the BLM's final decision and makes the Approved RMP effective immediately.

ADDRESSES: Copies of the ROD/Approved RMP are available upon request from the Field Manager, Bakersfield Field Office, Bureau of Land Management, 3801 Pegasus Drive, Bakersfield, CA 93308 or via the internet at www.blm.gov/ca/bakersfield. Copies of the ROD/Approved RMP are available for public inspection at the Bakersfield Field Office and California State Office, 2800 Cottage Way, Sacramento, CA 95825.

FOR FURTHER INFORMATION CONTACT: Sue Porter, Planning & Environmental Coordinator, Bakersfield Field Office, telephone: 661-391-6022; address: Bakersfield Field Office, 3801 Pegasus Drive, Bakersfield, CA 93308; email: blm_ca_bakersfield_rmp@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Bakersfield Approved RMP addresses public land and resources managed by the Bakersfield Field Office in an 8 county, 17-million acre region of central California and provides management direction for approximately 400,000 acres of BLM-administered public land and 1.2 million acres of Federal mineral estate under Federal, State, and private surface ownership.

The Bakersfield Approved RMP—

• Establishes the goals, objectives, and management actions to meet desired resource conditions;

• Identifies comprehensive management direction for all resources and uses, including application of on-site, off-site (including compensation), and regional mitigation strategies, as applicable, and landscape-level conservation and management actions to achieve resource objectives;

• Identifies lands that are open or available for certain uses along with associated surface restrictions;

• Identifies lands closed to certain uses; and

• Makes broad-scale decisions to guide future site-specific project implementation for renewable energy, fluid minerals, livestock grazing, and recreation management in the Bakersfield Field Office.

The selected alternative for the Approved RMP is the agency proposed plan (Alternative B) in the Proposed RMP/Final Environmental Impact Statement (EIS), with the minor modifications described below.

After publication of the Proposed RMP/Final EIS on August 31, 2012, the BLM received 21 protest letters. The BLM modified the proposed plan based on protest resolution as reflected in the Approved RMP. These changes include, but are not limited to, designation of the Salinas River as an Area of Critical Environmental Concern (ACEC) and adoption of the special management attention for this area as outlined in Alternative C of the Proposed RMP/Final EIS. The BLM also corrected acreages for the Bitter Creek and Chico Martinez ACECs, which had been modified in the Proposed RMP/Final EIS based on public comments to exclude lands for which the BLM has no authority to apply management prescriptions.

The California Governor's Office did not identify any inconsistencies between the Proposed RMP/Final EIS and State or local plans, policies, and programs during the 60-day Governor's consistency review.

The ROD/Approved RMP route designation decisions are implementation decisions and are appealable under 43 CFR part 4. Any party adversely affected by an implementation decision may appeal within 30 days of publication of this Notice of Availability pursuant to 43 CFR, part 4, subpart E. The appeal should identify the specific route(s) on which the decision is being appealed. The appeal must be filed with the Bakersfield Field Manager at the above listed address. Please consult the appropriate regulations (43 CFR, part 4, subpart E) for further appeal requirements.

Authority: 40 CFR 1506.6.

Gabriel Garcia,
Field Manager, Bakersfield Field Office.

[FR Doc. 2015-00597 Filed 1-15-15; 8:45 am]

BILLING CODE 4310-40-P